DEPARTMENT OF THE INTERIOR

Office of the Secretary

Invasive Species Advisory Committee; Meeting Cancellation

AGENCY: Office of the Secretary, Interior.

ACTION: Notice of meeting cancellation.

SUMMARY: The meeting of the Invasive Species Advisory Committee (ISAC) scheduled for Thursday, March 7, 2013 and Friday, March 8, 2013; is cancelled. The ISAC new member orientation scheduled for Wednesday, March 6, 2013 is also cancelled. Notice of this meeting was published in the February 11, 2013 issue of the Federal Register (78 FR 9724). A correction to meeting dates was published on February 20, 2013 (78 FR 11899). Both events are cancelled due to budget sequestration, and will not be rescheduled.

FOR FURTHER INFORMATION CONTACT: The Designated Federal Official, Lori Williams, NISC Executive Director, 202-513-7243; or email to Lori_Williams@ios.doi.gov.

SUPPLEMENTARY INFORMATION: The ISAC is comprised of 31 nonfederal invasive species experts and stakeholders from across the nation. The purpose of the Advisory Committee is to provide advice to the National Invasive Species Council, as authorized by Executive Order 13112, on a broad array of issues related to preventing the introduction of invasive species and providing for their control and minimizing the economic, ecological, and human health impacts that invasive species cause. The Council is co-chaired by the Secretary of the Interior, the Secretary of Agriculture, and the Secretary of Commerce. The duty of the Council is to provide national leadership regarding invasive species issues.

Dated: February 28, 2013.
Lori Williams,
Executive Director, National Invasive Species Council.

[FR Doc. 2013-05115 Filed 3-4-13; 8:45 am]

BILLING CODE 4310-RK-P